FEDERAL TRADE COMMISSION

Transfer of Delegations of Authority To Disclose Certain Nonpublic Information to Foreign Law Enforcement Agencies and Delegation of Authority To Sign Confidentiality Agreements With Certain Foreign Agencies

AGENCY: Federal Trade Commission.

ACTION: Transfer of delegation of authority and delegation of authority.

SUMMARY: The Commission has delegated authority to share information with certain law enforcement agencies in Canada, Australia and the United Kingdom to the Associate Director for International Consumer Protection. The Commission has also delegated to the Associate Director for International Consumer Protection authority to execute confidentiality agreements with certain foreign agencies, a condition of their being granted access to nonpublic databases. The delegation includes authority previously delegated to the Associate Director for Planning and Information, and all delegations are subject to confidentiality laws and rules.

EFFECTIVE DATE: May 8, 2002.

FOR FURTHER INFORMATION CONTACT: Michael L. Shore, Attorney, International Division of Consumer Protection, 202 326-2708, mshore@ftc.gov.

SUPPLEMENTARY INFORMATION: Notice is hereby given, pursuant to Reorganization Plan No. 4 of 1961, 26 FR 6191, that the Commission has transferred from the Associate Director for Planning and Information to the Associate Director for International Consumer Protection its prior delegations of authority to disclose: (1) to Canadian law enforcement agencies, information regarding consumer protection investigations involving Canadian businesses or consumers (65 FR 64950-02 (Oct. 31, 2000)); (2) to the Australian Competition and Consumer Commission, information regarding consumer protection investigations involving Australian businesses or consumers (65 FR 64950-02 (Oct. 31, 2000)); (3) to Australian law enforcement agencies, information contained in the Consumer Sentinel database of consumer complaints and law enforcement information (67 FR 4260-04 (Jan. 29, 2002)); and (4) to the United Kingdom Office of Fair Trading and the United Kingdom Directorate for Trade and Industry information regarding consumer protection investigations involving U.K. businesses or consumers (65 FR 67011-02 (Nov. 8, 2000)). With respect to Canadian law enforcement agencies, the Associate Director for International Consumer Protection can redelegate this authority to individual Regional Directors on specific cases and projects as appropriate. In addition, the Commission has delegated to the Associate Director for International Consumer Protection the authority to execute econsumer.gov confidentiality agreements with consumer protection authorities from current or future International Marketing Supervision Network (IMSN) member countries, and to execute Consumer Sentinel confidentiality agreements with any foreign law enforcement agency whose access has been authorized or is authorized in the future by the Commission or by the Commission's delegate, including without limitation Canadian and Australian law enforcement agencies.

This delegated authority does not apply to competition-related investigations. When exercising its delegated authority, staff will require from the relevant foreign law enforcement agency assurances of confidentiality. Disclosures shall be made only to the extent consistent with limitations on disclosure, including section 6(f) of the FTC Act, 15 U.S.C. 46(f), section 21 of the Act, 15 U.S.C. 57b-2, and the Commission Rule 4.10(d), 16 CFR 4.10(d), and with the Commission's enforcement policies and other important interests. Where the subject matter of the information to be shared raises significant policy concerns, staff shall notify the Commission before disclosing such information.

By direction of the Commission.
Donald S. Clark,
Secretary.

[FR Doc. 02-17325 Filed 7-9-02; 8:45 am]

BILLING CODE 6750-01-M